NUCLEAR REGULATORY COMMISSION

10 CFR Part 52

Early Site Permits; Standard Design Certifications; and Combined Licenses for Nuclear Power Plants

AGENCY: U.S. Nuclear Regulatory Commission.

ACTION: Availability of draft rule wording.

SUMMARY: The Nuclear Regulatory Commission (NRC) is making available the draft wording of a possible amendment of its regulations. The proposal would amend Title 10 of the Code of Federal Regulations (10 CFR) part 52, “Early Site Permits; Standard Design Certifications; and Combined Licenses for Nuclear Power Plants,” and associated regulations based on experience gained from design certification reviews and discussions with stakeholders on the early site permit and combined license processes. The changes should reduce the regulatory burden for future applicants and improve the effectiveness of 10 CFR part 52. The availability of the draft wording is intended to inform stakeholders of the current status of the NRC staff's activities to amend 10 CFR part 52 and to provide stakeholders the opportunity to comment on the draft changes.

DATES: Comments should be submitted within 45 days from the date of this notice. Any comments received after this date may not be considered during drafting of the proposed rule.

ADDRESSES: Submit written comments to: Secretary, U.S. Nuclear Regulatory Commission, Washington, DC 20555-0001, Attention: Rulemakings and Adjudications Staff, Mail Stop O-16C1 or deliver written comments to One White Flint North, 11555 Rockville Pike, Rockville, Maryland, between 7:30 a.m. and 4:15 p.m. on Federal workdays.

You may also provide comments via the NRC's interactive rulemaking Web site through the NRC's home page at http://www.ruleforum.llnl.gov. This site provides the capability to upload comments as files (any format), if your web browser supports that function. For information about the interactive rulemaking Web site, contact Ms. Carol Gallagher at (301) 415-5905 or by e-mail to cag@nrc.gov. Copies of any comments received and certain documents related to this rulemaking may be examined at the NRC Public Document Room, located at One White Flint North, 11555 Rockville Pike (first floor), Rockville, Maryland. The NRC maintains an Agencywide Documents Access and Management System (ADAMS), which provides text and image files of NRC's public documents. These documents may be accessed through the NRC's Public Electronic Reading Room on the Internet at http://www.nrc.gov/ NRC/ADAMS/index.html. If you do not have access to ADAMS or if there are problems in accessing the documents located in ADAMS, contact the NRC Public Document Room (PDR) Reference staff at 1-800-397-4209, 301-415-4737 or by email to pdr@nrc.gov.

FOR FURTHER INFORMATION CONTACT: Jerry N. Wilson, New Reactor Licensing Project Office, Office of Nuclear Reactor Regulation, U.S. Nuclear Regulatory Commission, Washington, DC 20555-0001; Telephone: (301) 415-3145; Internet: jnw@nrc.gov.

SUPPLEMENTARY INFORMATON: Part 52 of 10 CFR was originally issued to reform the licensing process for nuclear power plant applications. The licensing processes in Part 52 include early site permits, standard design certifications, and combined licenses. These licensing processes provide procedures for the early resolution of safety and environmental issues in licensing proceedings. Three nuclear plant designs have been certified under Subpart B of Part 52, by the NRC [U.S. Advanced Boiling Water Reactor, System 80+, and AP600], and were codified in Appendices A, B, and C of Part 52, respectively.

The NRC intends to update Part 52 based on experience gained in the use of the rule and discussions with stakeholders in public meetings and from comments on SECY-00-0092, “Combined License Review Process,” dated April 20, 2000. As a result of the above, the NRC has initiated this rulemaking to: (i) Make corrections to Parts 21, 50, 52, including the three design certification rules, 72 and 140; (ii) Modify Part 52 to enhance its provisions; and (iii) Consider comments on the draft rule.

This rulemaking began with the issuance of SECY-98-282, “Part 52 Rulemaking Plan,” dated December 4, 1998. The Commission issued a staff requirements memorandum, dated January 14, 1999, approving the NRC staff's plan for revising Part 52. Notification of this rulemaking was included in the NRC's rulemaking Web site on June 16, 1999, and letters were sent to ten stakeholders alerting them to this rulemaking on September 3, 1999. Comments on this rulemaking were submitted by the Nuclear Energy Institute on April 3, 2001 (ADAMS Accession Number ML011100405) and are being considered by the NRC staff.

The NRC has now developed draft wording for the changes to its regulations and has made them available on the NRC's rulemaking Web site at http://ruleforum.llnl.gov. This draft rule language is preliminary and may be incomplete in one or more respects. This draft rule language was released to inform stakeholders of the current status of the 10 CFR Part 52 update rulemaking and to provide stakeholders with an opportunity to comment on the draft revisions. Comments received prior to publishing the proposed rule will be considered in the development of the proposed rule. As appropriate, the Statements of Consideration for the proposed rule will briefly discuss substantive changes made to the rule language as a result of comments received. Comments may be provided through the rulemaking Web site at http://ruleforum.llnl.gov/ or by mail as indicated under the ADDRESSES heading. The NRC may post updates periodically on the rulemaking Web site that may be of interest to stakeholders.

Dated at Rockville, Maryland, this 20th day of September 2001.
For the Nuclear Regulatory Commission.
James E. Lyons,
Director New Reactor Licensing Project Office, Office of Nuclear Reactor Regulation.

[FR Doc. 01-24177 Filed 9-26-01; 8:45 am]

BILLING CODE 7590-01-P